DEPARTMENT OF THE INTERIOR

Fish and Wildlife Service

50 CFR Part 17

[Docket No. FWS-R6-ES-2011-0040: 4500030114]

RIN 1018-AX75

Endangered and Threatened Wildlife and Plants; Designation of Critical Habitat for Ipomopsis polyantha (Pagosa skyrocket), Penstemon debilis (Parachute beardtongue), and Phacelia submutica (DeBeque phacelia)

AGENCY: Fish and Wildlife Service, Interior.

ACTION: Revised proposed rule; reopening of comment period.

SUMMARY: We, the U.S. Fish and Wildlife Service (Service), announce the reopening of the public comment period on the July 27, 2011, proposed designation of critical habitat for Ipomopsis polyantha (Pagosa skyrocket), Penstemon debilis (Parachute beardtongue), and Phacelia submutica (DeBeque phacelia) under the Endangered Species Act of 1973, as amended (Act). We also announce the availability of a draft economic analysis, a draft environmental assessment, and an amended required determinations section of the proposal. We also propose to revise critical habitat unit boundaries for Ipomopsis polyantha units 2 and 4, and for Phacelia submutica units 6, 7, and 9. Finally, we announce some potential additional areas being considered for exclusion from critical habitat for Penstemon debilis unit 3. We are reopening the comment period for the proposal to allow all interested parties an opportunity to comment simultaneously on the proposed rule, the associated draft economic analysis (DEA), and draft environmental assessment (Draft EA), and the amended required determinations section. If you submitted comments previously, you do not need to resubmit them because we have already incorporated them into the public record and will fully consider them in preparation of the final rule.

DATES: We will consider all comments received or postmarked on or before April 26, 2012. Comments submitted electronically using the Federal eRulemaking Portal (see ADDRESSES section, below) must be received by 11:59 p.m. Eastern Time on the closing date.

ADDRESSES: You may submit comments by one of the following methods:

• Federal eRulemaking Portal: http://www.regulations.gov. Search for docket FWS-R6-ES-2011-0040 and then follow the instructions for submitting comments.

• U.S. mail or hand-delivery: Public Comments Processing, Attn: FWS-R6-ES-2011-0040; Division of Policy and Directives Management; U.S. Fish and Wildlife Service; 4401 N. Fairfax Drive, Suite 222; Arlington, VA 22203.

We will post all comments on http://www.regulations.gov. This generally means that we will post any personal information you provide us (see the Public Comments section below for more information).

FOR FURTHER INFORMATION CONTACT: Acting Western Colorado Supervisor, U.S. Fish and Wildlife Service, Western Colorado Ecological Services Office, 764 Horizon Drive, Suite B, Grand Junction, CO 81506-3946; telephone 970-243-2778; facsimile 970-245-6933. Persons who use a telecommunications device for the deaf (TDD) may call the Federal Information Relay Service (FIRS) at 800-877-8339.

SUPPLEMENTARY INFORMATION:

Public Comments

We will accept written comments and information during this reopened comment period on our proposed critical habitat for Ipomopsis polyantha, Penstemon debilis, and Phacelia submutica that was published in the Federal Register on July 27, 2011 (76 FR 45078), our DEA of the proposed designation, our Draft EA, our amendment of required determinations, our proposal to revise critical habitat unit boundaries for Ipomopsis polyantha units 2 and 4, and for Phacelia submutica units 6, 7, and 9, and additional areas being considered for exclusion from critical habitat for Penstemon debilis unit 3 provided in this document. We will consider information and recommendations from all interested parties. We are particularly interested in comments concerning:

(1) The reasons why we should or should not designate habitat as “critical habitat” under section 4 of the Act (16 U.S.C. 1531 et seq.) including whether there are threats to these species from human activity, the degree of which can be expected to increase due to the designation, and whether that increase in threat outweighs the benefit of designation such that the designation of critical habitat may not be prudent;

(2) Specific information on:

(a) The amount and distribution of Ipomopsis polyantha, Penstemon debilis, and Phacelia submutica habitat;

(b) What areas that are occupied and that contain features essential to the conservation of these species should be included in the designation and why;

(c) Special management considerations or protection that may be needed in critical habitat areas we are proposing, including managing for the potential effects of climate change;

(d) What areas not occupied at the time of listing are essential for the conservation of these species and why; and

(e) Means to quantify the amount of natural and human-caused disturbance these species prefer or can tolerate.

(3) Land use designations and current or planned activities in the subject areas and their possible impacts on proposed critical habitat.

(4) Information on the projected and reasonably likely impacts of climate change on Ipomopsis polyantha, Penstemon debilis, and Phacelia submutica and proposed critical habitat.

(5) Any probable economic, national security, or other relevant impacts of designating any area that may be included in the final designation; in particular, any impacts on small entities or families, and the benefits of including or excluding areas that exhibit these impacts.

(6) Whether any specific areas we are proposing for critical habitat designation should be considered for exclusion under section 4(b)(2) of the Act, especially the Mount Callahan Natural Area, the Mount Callahan Saddle Natural Area, newly designated areas at the Mt. Logan mine, and other lands owned by OXY USA (Oxy) for Penstemon debilis, and whether the benefits of potentially excluding any specific area outweigh the benefits of including that area under section 4(b)(2) of the Act.

(7) Information on the extent to which the description of potential economic impacts in the DEA is complete and accurate.

(8) Whether the DEA makes appropriate assumptions regarding current practices and any regulatory changes that will likely occur if we designate critical habitat.

(9) Whether the DEA correctly assesses the effect of regional costs associated with land use controls that may result from the designation of critical habitat.

(10) Whether the DEA identifies all Federal, State, and local costs and benefits attributable to the proposed designation of critical habitat, and information on any costs that have been inadvertently overlooked.

(11) Whether the Draft EA adequately presents the purpose of and need for the proposed action, the proposed action and alternatives, and the evaluation of the direct, indirect, and cumulative effects of the alternatives.

(12) Whether our approach to designating critical habitat could be improved or modified in any way to provide for greater public participation and understanding, or to better accommodate public concerns and comments.

You may submit your comments and materials concerning our proposed rule or the associated DEA and draft EA by one of the methods listed in ADDRESSES.

If you submit a comment via http://www.regulations.gov, your entire comment—including your personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this proposed rule, DEA, and Draft EA, will be available for public inspection on http://www.regulations.gov, or by appointment, during normal business hours, at the U.S. Fish and Wildlife Service, Colorado Ecological Services Office (see FOR FURTHER INFORMATION CONTACT). You may obtain copies of the proposed critical habitat, the DEA, and the Draft EA on the Internet at http://www.regulations.gov at docket number FWS-R6-ES-2011-0040, or at http://www.fws.gov/mountain-prairie/species/plants/3ColoradoPlants/index.html, or by mail from the Western Colorado Ecological Services Office (see FOR FURTHER INFORMATION CONTACT).

Background

Previous Federal Actions

It is our intent to discuss only those topics directly relevant to the proposed designation of critical habitat for Ipomopsis polyantha, Penstemon debilis, and Phacelia submutica. For more information on previous Federal actions concerning I. polyantha, P. debilis, and P. submutica, refer to the proposed designation of critical habitat published in the Federal Register on July 27, 2011 (76 FR 45078). Approximately 9,641 acres (ac) (3,902 hectares (ha)) are being proposed for designation as critical habitat for I. polyantha. Approximately 19,155 ac (7,752 ha) are being proposed for designation as critical habitat for P. debilis. Approximately 25,484 ac (10,313 ha) are being proposed for designation as critical habitat for P. submutica. In total, approximately 54,280 ac (21,967 ha) are being proposed for designation as critical habitat for the three species. The proposed critical habitat is located in Archuleta, Garfield, and Mesa Counties, Colorado. The original proposal had a 60-day public comment period, ending September 26, 2011. We will submit for publication in the Federal Register a final critical habitat designation for I. polyantha, P. debilis, and P. submutica on or before the statutory deadline of July 27, 2012.

For additional information on the biology of these species, see the July 27, 2011, final rule to list Ipomopsis polyantha as endangered, and to list Penstemon debilis, and Phacelia submutica as threatened (76 FR 45054); as well as the July 27, 2011 proposed critical habitat rule (76 FR 45078).

Section 3 of the Act defines critical habitat as the specific areas within the geographical area occupied by the species, at the time it is listed in accordance with the Act, on which are found those physical or biological features essential to the conservation of the species and that may require special management considerations or protection; and specific areas outside the geographical area occupied by the species at the time it is listed upon a determination that such areas are essential for the conservation of the species. If the proposed rule is made final, section 7 of the Act will prohibit destruction or adverse modification of critical habitat by any activity funded, authorized, or carried out by any Federal agency. Federal agencies proposing actions that affect critical habitat must consult with us on the effects of their proposed actions, under section 7(a)(2) of the Act.

Consideration of Impacts Under Section 4(b)(2) of the Act

Section 4(b)(2) of the Act requires that we designate or revise critical habitat based upon the best scientific data available, after taking into consideration the economic impact, impact on national security, or any other relevant impact of specifying any particular area as critical habitat. We may exclude an area from critical habitat if we determine that the benefits of excluding the area outweigh the benefits of including the area as critical habitat, provided such an exclusion will not result in the extinction of the species.

When considering the benefits of inclusion for an area, we consider the additional regulatory benefits that area would receive from the protection from adverse modification or destruction as a result of actions with a Federal nexus (activities conducted, funded, permitted, or authorized by Federal agencies), the educational benefits of mapping areas containing essential features that aid in the recovery of the listed species, and any benefits that may result from the designation due to State or Federal laws that may apply to critical habitat.

When considering the benefits of exclusion, we consider, among other things, whether exclusion of a specific area is likely to result in conservation; the continuation, strengthening, or encouragement of partnerships; or implementation of a management plan. In the case of Ipomopsis polyantha, Penstemon debilis, and Phacelia submutica, the benefits of critical habitat include public awareness of the presence of these species and the importance of habitat protection, and, where a Federal action exists, increased habitat protection for these species due to protection from adverse modification or destruction of critical habitat. In practice, situations with a Federal action occur primarily on Federal lands or for projects undertaken by Federal agencies.

The final decision on whether to exclude any areas will be based on the best scientific data available at the time of the final designation, including information obtained during the comment period and information about the economic impact of designation. Accordingly, we have prepared a DEA concerning the proposed critical habitat designation, which is available for review and comment (see ADDRESSES).

Draft Economic Analysis

The purpose of the DEA is to identify and analyze the potential economic impacts associated with the proposed critical habitat designation for Ipomopsis polyantha, Penstemon debilis, and Phacelia submutica. The DEA describes the economic impacts of all potential conservation efforts for I. polyantha, P. debilis, and P. submutica. Some of these costs will likely be incurred regardless of whether or not we designate critical habitat. The economic impact of the proposed critical habitat designation is analyzed by comparing scenarios both “with critical habitat” and “without critical habitat.” The “without critical habitat” scenario represents the baseline for the analysis, considering protections already in place for these species (e.g., under the Federal listing and other Federal, State, and local regulations). Therefore, the baseline represents the costs incurred regardless of whether critical habitat is designated. The “with critical habitat” scenario describes the incremental impacts associated specifically with the designation of critical habitat for these species. The incremental conservation efforts and associated impacts are those not expected to occur absent the designation of critical habitat for these species. In other words, the incremental costs are those attributable solely to the designation of critical habitat above and beyond the baseline costs; these are the costs we may consider in the final designation of critical habitat. The analysis looks retrospectively at baseline impacts incurred since these species were listed, and forecasts both baseline and incremental impacts likely to occur if we finalize the proposed critical habitat designation.

The DEA provides estimated costs of the foreseeable potential economic impacts of the proposed critical habitat designation for Ipomopsis polyantha, Penstemon debilis, and Phacelia submutica over the next 20 years, which was determined to be the appropriate period for analysis because planning information was available for most activities to reasonably forecast activity levels for projects for a 20-year timeframe. The DEA identifies potential incremental costs as a result of the proposed critical habitat designation; these are those costs attributed to critical habitat over and above those baseline costs attributed to listing. The DEA quantifies economic impacts of conservation efforts for Ipomopsis polyantha, Penstemon debilis, and Phacelia submutica associated with the following categories of activity: (1) Energy development; (2) transportation projects; (3) agriculture and grazing; and (4) recreation.

Because of uncertainty regarding the level and distribution of future oil and gas development, the DEA presents a low and high cost scenario for baseline and incremental economic impacts. Over the next 20 years, potential baseline impacts in areas proposed for designation are estimated to be $3.85 million to $9.81 million (low and high cost scenarios; approximately $340,000 to $866,000 on an annualized basis), assuming a seven percent discount rate. Baseline impacts in areas considered for exclusion are estimated to be $2.36 million. The DEA estimates that total potential incremental economic impacts associated with a critical habitat designation in areas proposed as critical habitat for all three species over the next 20 years will be $967,000 to $14.8 million (low and high cost scenarios; approximately $85,300 to $1.3 million on an annualized basis), assuming a 7-percent discount rate (Table 1). The largest contributor to potential incremental costs is impacts to oil and gas development, which represent approximately 90 percent of incremental impacts in the low-cost scenario and 99 percent of impacts in the high-cost scenario. Impacts to agriculture and grazing, recreation, and transportation projects combined represent less than ten percent of the incremental impacts in both scenarios analyzed.

Table 1—Incremental Impacts of Proposed Critical Habitat Designation for Ipomopsis polyantha, Penstemon debilis, and Phacelia submutica by Species, Unit, and Activity
[2012 dollars, assuming a 7-percent discount rate]
Unit # | Unit name | Oil & gas -low- | Oil & gas -high- | Transportation | Agriculture & grazing | Recreation | Species mgmt | Subtotal -low- | Subtotal -high-
Areas Proposed for Designation
Ipomopsis polyantha (Pagosa Skyrocket)
1 | Dyke | $0 | $0 | $9,370 | $0 | $0 | $0 | $9,370 | $9,370
2 | O'Neal Hill Special Botanical Area | 0 | 0 | 0 | 0 | 7,500 | 0 | 7,500 | 7,500
3 | Pagosa Springs | 0 | 0 | 3,330 | 0 | 0 | 0 | 3,330 | 3,330
4 | Eight Mile Mesa | 0 | 0 | 0 | 0 | 7,500 | 0 | 7,500 | 7,500
Subtotal |  | 0 | 0 | 12,700 | 0 | 15,000 | 0 | 27,700 | 27,700
Penstemon debilis (Parachute Beardtongue)
1 | Brush Mountain | 11,600 | 195,000 | 0 | 0 | 0 | 0 | 11,600 | 195,000
2 | Cow Ridge | 35,500 | 599,000 | 0 | 0 | 0 | 0 | 35,500 | 599,000
3 | Mount Callahan | 10,900 | 184,000 | 0 | 0 | 2,130 | 0 | 13,000 | 186,000
4 | Anvil Points | 8,470 | 143,000 | 0 | 0 | 2,130 | 0 | 10,600 | 145,000
Subtotal |  | 66,400 | 1,120,000 | 0 | 0 | 4,250 | 0 | 70,600 | 1,120,000
Phacelia submutica (Debeque Phacelia)
1 | Sulphur Gulch | 37,300 | 629,000 | 0 | 1,590 | 1,060 | 0 | 39,900 | 632,000
2 | Pyramid Rock | 627,000 | 10,600,000 | 0 | 1,590 | 1,060 | 0 | 630,000 | 10,600,000
3 | Roan Creek | 398 | 6,720 | 0 | 0 | 0 | 0 | 398 | 6,720
4 | DeBeque | 13,100 | 221,000 | 0 | 1,590 | 1,060 | 0 | 15,800 | 224,000
5 | Mount Logan | 0 | 0 | 0 | 1,590 | 2,130 | 0 | 3,720 | 3,720
6 | Ashmead Draw | 44,700 | 755,000 | 0 | 1,590 | 1,060 | 0 | 47,400 | 757,000
7 | Baugh Reservoir | 18,200 | 307,000 | 0 | 1,590 | 1,060 | 0 | 20,800 | 310,000
8 | Horsethief Mountain | 60,200 | 1,020,000 | 0 | 43,600 | 5,820 | 0 | 110,000 | 1,070,000
9 | Anderson Gulch | 1,150 | 19,500 | 0 | 0 | 0 | 0 | 1,150 | 19,500
Subtotal |  | 802,000 | 13,500,000 | 0 | 53,200 | 13,300 | 0 | 868,000 | 13,600,000
Total |  | 868,000 | 14,700,000 | 12,700 | 53,200 | 32,500 | 0 | 967,000 | 14,800,000
Areas Considered for Exclusion
Parachute Beardtongue
3 | Mount Callahan | 0 | 0 | 0 | 0 | 0 | 0 | 0 | 0
Note: Totals may not sum due to rounding.

In the low cost scenario, proposed Unit 2 for Phacelia submutica has the highest incremental impacts (65 percent of total), followed by proposed Unit 8 for P. submutica (11 percent of total) and proposed Unit 6 for P. submutica (five percent of total). In the high cost scenario, these same three units (proposed Units 2, 8, and 4 for P. submutica) have the highest incremental impacts with 72 percent, seven percent, and five percent of the total incremental impacts, respectively.

As stated earlier, we are seeking data and comments from the public on the DEA and the Draft EA, as well as all aspects of the proposed rule and our amended required determinations. We may revise the proposed rule or supporting documents to incorporate or address information we receive during the public comment period. In particular, we may exclude an area from critical habitat if we determine that the benefits of excluding the area outweigh the benefits of including the area, provided the exclusion will not result in the extinction of the species.

Draft Environmental Assessment; National Environmental Policy Act

When the range of a species includes States within the U.S. Tenth Circuit Court of Appeals, pursuant to the ruling in Catron County Board of Commissioners v. U.S. Fish and Wildlife Service, 75 F .3d 1429 (10th Cir. 1996), we will complete an analysis under the National Environmental Policy Act of 1969 (42 U.S.C. 4321 et seq.) (NEPA), on critical habitat designations. The range of Ipomopsis polyantha, Penstemon debilis, and Phacelia submutica is entirely within the State of Colorado, which is within the Tenth Circuit.

The Draft EA presents the purpose of and need for critical habitat designation, the proposed action and alternatives, and an evaluation of the direct, indirect, and cumulative effects of the alternatives under the requirements of NEPA as implemented by the Council on Environmental Quality regulations (40 CFR 1500 et seq.) and according to the Department of the Interior's NEPA procedures.

The Draft EA will be used by the Service to decide whether or not critical habitat will be designated as proposed; if the proposed action requires refinement, or if another alternative is appropriate; or if further analyses are needed through preparation of an environmental impact statement. If the proposed action is selected as described (or is changed minimally) and no further environmental analyses are needed, then a Finding of No Significant Impact (FONSI) would be the appropriate conclusion of this process. A FONSI would then be prepared for the environmental assessment.

Proposed Changes to Critical Habitat Unit Boundaries

In this document, we are proposing changes to some of the critical habitat units that were defined in the July 27, 2011, proposed designation of critical habitat for Ipomopsis polyantha, Penstemon debilis, and Phacelia submutica. We describe these changes below and provide updated critical habitat unit maps in this notice. Maps illustrating the changes from the previously proposed unit boundaries are available on the Internet at http://www.regulations.gov at docket number FWS-R6-ES-2011-0040, or at http://www.fws.gov/mountain-prairie/species/plants/3ColoradoPlants/index.html.

Ipomopsis polyantha

We are proposing to modify our proposed critical habitat Units 2 and 4 for Ipomopsis polyantha based on comments we have received from the U.S. Forest Service (USFS) and based on field visits made during the summer of 2011. Changes in acreage are depicted in Table 2.

Table 2—Proposed Changes to Critical Habitat Units for Ipomopsis polyantha
Critical habitat unit | Land ownership | Size of original unit | Size of proposed revision
Unit 2. O'Neal Hill Special Botanical Area | USFS—San Juan National Forest | 784 ac (317 ha). | 564 ac. (228 ha).
Unit 4. Eight Mile Mesa | USFS—San Juan National Forest | 1,180 ac (478 ha). | 1,146 ac. (464 ha).
Total for All Units (Units 1 and 3 unchanged) |  | 9,894 ac (4,004 ha). | 9,641 ac. (3,902 ha).

Unit 2. O'Neal Hill Special Botanical Area

We are proposing to reduce the size of Unit 2, the O'Neal Hill Botanical Area from 784 ac (317 ha) to 564 ac (228 ha). We are modifying this unit so that the thick pasture grass and riparian areas in the bottomlands that do not contain any of the primary constituent elements (PCEs) for Ipomopsis polyantha would no longer be included (USFS 2011, p. 1). We believe there is still enough area to provide protection for pollinators if this site is used as an introduction area in the future. This area is unoccupied and is owned by the USFS with 279 ac (113 ha), or 49 percent of the unit within the O'Neal Hill Special Botanical Area that was designated to protect another Mancos shale endemic, Lesquerella pruinosa (Pagosa bladderpod). Because L. pruinosa is sometimes found growing with I. polyantha, we believe the site has high potential for introduction of I. polyantha. Aside from the changes described here, the unit description from our proposed critical habitat rule still applies (76 FR 45078).

Unit 4. Eight Mile Mesa

We are proposing to reduce the size of Unit 4, Eight Mile Mesa, from 1,180 ac (478 ha) to 1,146 ac (464 ha). We are modifying this unit so that isolated patches that are separated from the large contiguous potential habitat by roads are not included (USFS 2011, p. 2). These isolated patches would not be suitable as potential introduction sites in the future because they are small and separated from the large block of contiguous habitat by roads. This unit is unoccupied and is owned by the USFS. Aside from the changes described here, the unit description from our proposed critical habitat rule still applies (76 FR 45078).

Phacelia submutica

For Phacelia submutica, we are modifying three of the proposed critical habitat units, all of which are occupied: Ashmead Draw (Unit 6), Baugh Reservoir (Unit 7), and Anderson Gulch (Unit 9). Changes to the acreages are depicted in Table 3. All three units have been made larger. The boundaries of all units were expanded based on 2011 field surveys in historical sites and in suitable habitat near these sites (Service 2011, pp. 1-12; CNHP 2011, pp. 1-3, spatial data).

Table 3—Proposed Changes to Critical Habitat Units for Phacelia submutica
Unit No./Unit name | Original proposed critical habitat: Land ownership by type: Federal | Original proposed critical habitat: Land ownership by type: State | Original proposed critical habitat: Land ownership by type: Private | Original proposed critical habitat: Size of unit | Proposed revisions to critical habitat: Land ownership by type: Federal | Proposed revisions to critical habitat: Land ownership by type: State | Proposed revisions to critical habitat: Land ownership by type: Private | Proposed revisions to critical habitat: Size of unit
Unit 6. Ashmead Draw | 1,046 ac (423 ha) |  | 174 ac (71 ha) | 1,220 ac (494 ha) | 1,110 ac (449 ha) |  | 166 ac (67 ha) | 1,276 ac. (516 ha).
Unit 7. Baugh Reservoir | 19 ac (8 ha) |  | 10 ac (4 ha) | 28* ac (12 ha) | 169 ac (68 ha) |  | 261 ac (106 ha) | 430 ac. (174 ha).
Unit 9. Anderson Gulch |  | 173 ac (70 ha) | 128 ac (52 ha) | 301 ac (122 ha) |  | 192 ac (78 ha) | 149 ac (60 ha) | 341 ac. (138 ha).
Total (all other units unchanged) | 21,800 ac (8,822 ha) | 173 ac (70 ha) | 3,014 ac (1,220 ha) | 24,987 ac (10,112 ha) | 22,013 (8,908 ha) | 192 ac (78 ha) | 3,278 ac (1,327 ha) | 25,484 ac. (10,313 ha).
* 23 ac (9 ha) of this 28 ac (12 ha) is still included in Unit 7, Baugh Reservoir.

Unit 6. Ashmead Draw

We are proposing to increase the size of Unit 6, Ashmead Draw, from 1,220 ac (494 ha) to 1,276 ac (516 ha). In the spring of 2011, we revisited a historical location we had used to delineate the unit in our proposed rule and found that the site extended slightly to the east of where it was previously mapped (Service 2011, pp. 1-4). To accommodate this situation, we are proposing the boundary changes described here. The unit comprises both Federal and private lands in Mesa County, Colorado. Eighty-seven percent of this unit is managed by the Bureau of Land Management (BLM). The entire unit is within the Westwide Energy corridor, and 87 percent is within several grazing allotments. This unit is currently occupied. Aside from the changes described here, the unit description from our proposed critical habitat rule still applies (76 FR 45078).

Unit 7. Baugh Reservoir

We are proposing to increase the size of Unit 7, Baugh Reservoir, from 28 ac (12 ha) to 430 ac (174 ha). In the spring of 2011, we revisited the historical location we had used to delineate the unit in our proposed critical habitat rule and found that the site was actually south of where it was originally mapped. After visiting the site, we discovered more suitable habitat in the area than previously known. We located two additional sites nearby during subsequent field surveys (Service 2011, pp. 5-12). The unit is 61 percent privately owned and 39 percent owned by the BLM. This unit is currently occupied. Several roads run through the unit close to Phacelia submutica sites. The entire unit is within the Westwide Energy corridor and one grazing allotment. Aside from the changes described here, the unit description from our proposed critical habitat rule still applies (76 FR 45078).

Unit 9. Anderson Gulch

We are proposing to increase the size of Unit 9, Anderson Gulch, from 301 ac (122 ha) to 341 ac (138 ha). Surveys during the spring of 2011 extended the known sites to the north (CNHP 2011, pp. 1-3, spatial data). To accommodate this situation, we are proposing the boundary changes described here. The unit comprises both State and private lands in Mesa County, Colorado. Within the unit, 56 percent of the lands are managed by the Colorado Division of Wildlife, within the Plateau Creek State Wildlife Area, and 44 percent is private. This unit is currently occupied. Aside from the changes described here, the unit description from our proposed critical habitat rule still applies (76 FR 45078).

Additional Areas Considered for Exclusion

Penstemon debilis Unit 3. Mount Callahan

Three of the four viable (large and robust) populations of Penstemon debilis are on lands owned by Oxy, all within the proposed Unit 3 (Mount Callahan). Conservation of the species cannot occur without cooperation from Oxy. P. debilis populations protected through Colorado Natural Areas agreements may receive better protection than they would otherwise receive through the protections of the Act on private lands. Given this, and to facilitate our partnership, in our original critical habitat proposal we announced that we would consider the exclusion of areas on Oxy lands that are protected under a voluntary conservation agreement with the Colorado Natural Areas Program (CNAP).

We are now considering excluding under section 4(b)(2) of the ESA additional lands for Penstemon debilis based on the efforts of the landowner (OXY) and a potential agreement with CNAP. Oxy is working with CNAP to expand their agreement to include the Mt. Logan Mine area so that all three viable Penstemon debilis populations on Oxy lands are protected (see figure below) (Oxy 2010, pp. 1-6). If designated, we also would consider excluding this area. For areas outside these Natural Areas, Oxy also is working to develop best management practices to protect adjacent habitat and the pollinators found in these adjacent habitats. If these best management practices are adequately described in their Natural Areas agreement, we also would consider excluding Oxy lands that are covered by these best management practices outside of suitable habitat (barren cliff areas). If further protections were provided for suitable habitat, we would consider this in our decision. We do not yet know where the boundaries of the potential Natural Area at Mt. Logan Mine would be so we have depicted this area with a generalized map. We also have delineated, to the best of our abilities, suitable habitat for P. debilis in the map of Unit 3.

BILLING CODE 4310-55-P

BILLING CODE 4310-55-C

Nonsubstantive Changes to § 17.12(h)

In the July 27, 2011, proposed rule, the table entries for the List of Endangered and Threatened Plants at § 17.12(h) contained a small formatting error. The scientific names for Ipomopsis polyantha and Penstemon debilis were presented in Roman type; however, they should have been presented in italics. We are correcting this error in this revised proposed rule.

Required Determinations—Amended

In our July 27, 2011, proposed rule (76 FR 45078), we indicated that we would defer our determination of compliance with several statutes and Executive Orders (EOs) until the information concerning potential economic impacts of the designation and potential effects on landowners and stakeholders became available in the DEA. We have now made use of the DEA data in making these determinations. In this document, we affirm the information in our proposed rule concerning E.O. 12866 (Regulatory Planning and Review), E.O. 12630 (Takings), E.O. 13132 (Federalism), E.O. 12988 (Civil Justice Reform), the Paperwork Reduction Act, E.O. 12866 and E.O. 12988 (Clarity of the Rule), and the President's memorandum of April 29, 1994, “Government-to-Government Relations with Native American Tribal Governments” (59 FR 22951). However, based on the DEA data, we are amending our required determinations concerning the Regulatory Flexibility Act (5 U.S.C. 601 et seq.), E.O. 13211 (Energy Supply, Distribution, or Use), and the Unfunded Mandates Reform Act (2 U.S.C. 1501 et seq.).

Regulatory Flexibility Act (5 U.S.C. 601 et seq.)

Under the Regulatory Flexibility Act (5 U.S.C. 601 et seq., as amended by the Small Business Regulatory Enforcement Fairness Act of 1996), whenever an agency must publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. Based on our DEA of the proposed designation, we provide our analysis for determining whether the proposed rule would result in a significant economic impact on a substantial number of small entities. Based on comments we receive, we may revise this determination as part of our final rulemaking.

According to the Small Business Administration, small entities include small organizations, such as independent nonprofit organizations, and small governmental jurisdictions, including school boards and city and town governments that serve fewer than 50,000 residents, as well as small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under the rule, as well as the types of project modifications that may result. In general, the term “significant economic impact” is meant to apply to a typical small business firm's business operations.

To determine if the proposed designation of critical habitat for Ipomopsis polyantha, Penstemon debilis, and Phacelia submutica would affect a substantial number of small entities, we considered the number of small entities affected within particular types of economic activities (e.g., energy development, transportation projects, agriculture and grazing, recreation). In order to determine whether it is appropriate for our agency to certify that this rule would not have a significant economic impact on a substantial number of small entities, we considered each industry or category individually. In estimating the numbers of small entities potentially affected, we also considered whether their activities have any Federal involvement. Critical habitat designation will not affect activities that do not have any Federal involvement; designation of critical habitat affects activities conducted, funded, permitted, or authorized by Federal agencies.

Under the Act, designation of critical habitat only affects activities carried out, funded, or permitted by Federal agencies. If we finalize the proposed critical habitat designation, Federal agencies must consult with us under section 7 of the Act if their activities may affect designated critical habitat. Consultations to avoid the destruction or adverse modification of critical habitat would be incorporated into the existing consultation process.

Some kinds of activities are unlikely to have any Federal involvement and so would not result in any additional effects under the Act. If there is a Federal action, Federal agencies will be required to consult with us under section 7 of the Act on activities they fund, permit, or carry out that may affect critical habitat. If we conclude in a biological opinion that a proposed action is likely to destroy or adversely modify critical habitat, we can offer “reasonable and prudent alternatives.” Reasonable and prudent alternatives are alternative actions that can be implemented in a manner consistent with the scope of the Federal agency's legal authority and jurisdiction, that are economically and technologically feasible, and that would avoid destroying or adversely modifying critical habitat.

Within the proposed critical habitat designation, the types of actions or authorized activities that we have identified as potential concerns and that may be subject to consultation under section 7 if there is a Federal action includes: Energy development (oil and gas); transportation projects; agriculture and grazing; and recreation. As discussed in Appendix A of the DEA of the activities addressed in the analysis, only oil and gas, transportation, and recreational activities are expected to experience incremental, administrative consultation costs that may be borne by small businesses.

Any existing and planned projects, land uses, and activities that could affect the proposed critical habitat but have no Federal involvement would not require section 7 consultation with the Service, so they are not restricted by the requirements of the Act. Federal agencies may need to reinitiate a previous consultation if discretionary involvement or control over the Federal action has been retained or is authorized by law and the activities may affect critical habitat.

In the DEA, we evaluated the potential economic effects on small entities resulting from implementation of conservation actions related to the proposed designation of critical habitat for Ipomopsis polyantha, Penstemon debilis, and Phacelia submutica. Please refer to our DEA of the proposed critical habitat designation for a more detailed discussion of potential economic impacts; we will summarize key points of the analysis below.

The DEA, and its associated initial regulatory flexibility analysis, estimate that total potential incremental economic impacts in areas proposed as critical habitat for all three species over the next 20 years will be $967,000 to $14.8 million, assuming a 7-percent discount rate. The largest contributor to the incremental costs is impacts to oil and gas development, which represent approximately 90 percent of incremental impacts in the low-cost scenario and 99 percent of impacts in the high-cost scenario. Incremental impacts to oil and gas development range from $868,000 to $14.7 million, assuming a 7-percent discount rate. These impacts are related to future oil and gas development that occurs in areas greater than 100 meters from known Phacelia submutica occurrences and greater than 1,000 meters from known Penstemon debilis occurrences. Similar to the baseline impacts, the large range in incremental impacts is due to uncertainty regarding the level and distribution of future oil and gas development.

Incremental impacts to transportation projects are estimated to be $12,700, assuming a 7-percent discount rate. Incremental impacts to recreational activities are estimated to be $32,500, assuming a 7-percent discount rate. The incremental impacts to transportation and recreational activities are limited to the administrative cost of consultation. Incremental impacts to agriculture and grazing are estimated to be $53,200, assuming a 7-percent discount rate.

Small entities represent 60 percent of all entities in the oil and gas development industry that may be affected. The analysis expects conservation efforts for the three plants to affect companies that are involved with drilling for oil and gas and that lease or plan to lease Federal lands. Although we predict that drilling activity will not be precluded by the designation, we anticipate requesting that drilling companies undertake project modifications to reduce potential impacts to the habitat. The costs of implementing these project modifications are one impact of the regulation. In addition, affected companies will incur administrative costs associated with the section 7 consultation process.

The DEA estimates that between 0.23 and 5.1 projects are undertaken in the study area (total number of projects divided by 20 years). We multiply these projects by the percentage of small entities in these counties, or approximately 60 percent, to identify the annual number of projects likely to be undertaken by small entities (0.14 to 3.06 projects annually). Some of these projects will only incur incremental administrative costs because they are located close to existing plants. In these cases, the project modification costs will be incurred regardless of the designation of critical habitat. Projects experiencing the highest annual incremental costs are located in unoccupied areas. We multiply the per-project costs in these unoccupied areas by the total number of annual projects undertaken by small entities and then divide by the number of affected small entities to estimate per-entity costs. These impacts are then compared to average annual sales per small business in the sector. On average, annual incremental impacts per small drilling company represent 0.01 to 0.27 percent of small developers' annual average sales.

In summary, less than two to four small entities may be affected annually by the proposed rule. These entities will likely experience costs equivalent to less than 1 percent of annual revenues. Importantly, these estimates assume each well pad is drilled by a separate entity. In the case that one small company drills more well pads than predicted, impacts to that company are underestimated, and the annual number of affected entities is overstated.

Executive Order 13211—Energy Supply, Distribution, and Use

E.O. 13211, Actions Concerning Regulations That Significantly Affect Energy Supply, Distribution, or Use, requires agencies to prepare Statements of Energy Effects when undertaking certain actions. The Office of Management and Budget's guidance for implementing this Executive order outlines nine outcomes that may constitute “a significant adverse effect” when compared to no regulatory action. Critical habitat designation for the three plants is anticipated to affect oil and gas activities. However, the Service is more likely to recommend a series of project modifications that will allow for work within critical habitat, rather than complete avoidance of critical habitat. Therefore, reductions in oil and natural gas production are not anticipated. Furthermore, given the small fraction of projects affected, less than one to approximately two per year, project modification costs are not anticipated to increase the cost of energy production or distribution in the United States in excess of 1 percent. Thus, none of the nine threshold levels of impact listed above is exceeded. Therefore, designation of critical habitat is not expected to lead to any adverse outcomes (such as a reduction in oil and natural gas production or distribution), and a Statement of Energy Effects is not required.

Unfunded Mandates Reform Act (2 U.S.C. 1501 et seq.)

In accordance with the Unfunded Mandates Reform Act (2 U.S.C. 1501 et seq.), we make the following findings:

(a) This rule will not produce a Federal mandate. In general, a Federal mandate is a provision in legislation, statute, or regulation that would impose an enforceable duty upon State, local, or Tribal governments, or the private sector, and includes both “Federal intergovernmental mandates” and “Federal private sector mandates.” These terms are defined in 2 U.S.C. 658(5)-(7). “Federal intergovernmental mandate” includes a regulation that “would impose an enforceable duty upon State, local, or Tribal governments,” with two exceptions. First, it excludes “a condition of federal assistance.” Second, it excludes “a duty arising from participation in a voluntary Federal program,” unless the regulation “relates to a then-existing Federal program under which $500,000,000 or more is provided annually to State, local, and Tribal governments under entitlement authority,” if the provision would “increase the stringency of conditions of assistance” or “place caps upon, or otherwise decrease, the Federal Government's responsibility to provide funding” and the State, local, or Tribal governments “lack authority” to adjust accordingly. At the time of enactment, these entitlement programs were: Medicaid; Aid to Families with Dependent Children work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above on to State governments.

(b) As discussed in the DEA of the proposed designation of critical habitat for Ipomopsis polyantha, Penstemon debilis, and Phacelia submutica, we do not believe that the rule would significantly or uniquely affect small governments because it would not produce a Federal mandate of $100 million or greater in any year; that is, it is not a “significant regulatory action” under the Unfunded Mandates Reform Act. The DEA concludes that incremental impacts may occur due to project modifications and administrative costs of consultation that may need to be made for oil and gas, transportation, grazing, and recreational activities; however, these are not expected to affect small governments to the extent described above. Consequently, we do not believe that the proposed critical habitat designation would significantly or uniquely affect small government entities. As such, a Small Government Agency Plan is not required.

References Cited

A complete list of all references we cited in the proposed rule and in this document is available on the Internet at http://www.regulations.gov or by contacting the Colorado Ecological Services Office (see FOR FURTHER INFORMATION CONTACT).

Authors

The primary authors of this document are the staff members of the Western Colorado Ecological Services Office.

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 76 FR 45078, July 27, 2011, as follows:

PART 17—ENDANGERED AND THREATENED WILDLIFE AND PLANTS

1. The authority citation for part 17 continues to read as follows:

Authority: 16 U.S.C. 1361-1407; 16 U.S.C. 1531-1544; 16 U.S.C. 4201-4245; Pub. L. 99-625, 100 Stat. 3500; unless otherwise noted.

§ 17.12 [Amended]

2. In § 17.12(h), amend the entries for “Ipomopsis polyantha” and “Penstemon debilis” under “Flowering Plants” in the List of Endangered and Threatened Plants by removing the words “Ipomopsis polyantha” and “Penstemon debilis” and adding in their place the words “Ipomopsis polyantha” and “Penstemon debilis”.

3. In § 17.96, in paragraph (a), amend the entry for “Phacelia submutica (DeBeque phacelia)” by revising units 6, 7, and 9, and the entry for “Ipomopsis polyantha (Pagosa skyrocket)” by revising units 2 and 4, to read as follows:

§ 17.96 Critical habitat—plants.

(a) Flowering plants.

* * * * *

Family Hydrophyllaceae: Phacelia submutica (DeBeque phacelia)

* * * * *

(11) Unit 6: Mesa County, Colorado.

(i) Land bounded by the following UTM NAD83, zone 13N coordinates (E,N): 224560.31, 4351994.12; 224551.61, 4351993.51; 224545.14, 4351993.94; 224534.23, 4351994.73; 224343.42, 4352006.84; 224341.20, 4352007.01; 224332.52, 4352007.77; 224315.35, 4352010.79; 224306.93, 4352013.05; 224298.61, 4352015.67; 224290.55, 4352019.01; 224282.65, 4352022.70; 224267.56, 4352031.41; 224260.42, 4352036.41; 224253.50, 4352041.72; 224247.06, 4352047.61; 224240.90, 4352053.78; 224229.70, 4352067.13; 224224.70, 4352074.27; 224220.01, 4352081.63; 224215.98, 4352089.37; 224212.30, 4352097.26; 224208.96, 4352105.32; 224206.34, 4352113.64; 224204.08, 4352122.06; 224201.05, 4352139.23; 224200.29, 4352147.91; 224199.93, 4352154.95; 224629.91, 4354119.91; 224136.18, 4355951.10; 224136.42, 4355958.96; 224137.28, 4355966.78; 224138.75, 4355974.51; 224140.82, 4355982.09; 224143.49, 4355989.49; 224146.73, 4355996.66; 224167.76, 4356038.72; 224169.66, 4356042.35; 225797.71, 4358990.45; 225803.34, 4358999.46; 225808.33, 4359006.60; 225819.54, 4359019.96; 225825.70, 4359026.12; 225832.13, 4359032.01; 225839.05, 4359037.32; 225846.19, 4359042.32; 225861.29, 4359051.04; 225869.19, 4359054.72; 225877.25, 4359058.06; 225885.57, 4359060.68; 225893.99, 4359062.94; 225911.15, 4359065.97; 225919.84, 4359066.73; 225928.55, 4359067.11; 225937.27, 4359066.73; 225945.95, 4359065.97; 225963.12, 4359062.94; 225971.53, 4359060.68; 225979.85, 4359058.06; 225987.91, 4359054.72; 225995.81, 4359051.04; 226010.91, 4359042.32; 226018.05, 4359037.32; 226024.97, 4359032.01; 226031.40, 4359026.12; 226037.56, 4359019.96; 226048.77, 4359006.60; 226053.77, 4358999.46; 226058.46, 4358992.11; 226062.48, 4358984.37; 226066.17, 4358976.47; 226069.51, 4358968.41; 226072.13, 4358960.09; 226074.38, 4358951.67; 226077.41, 4358934.50; 226078.17, 4358925.82; 226078.55, 4358917.11; 226078.17, 4358908.39; 226077.41, 4358899.71; 226075.73, 4358888.22; 224674.17, 4352093.97; 224672.83, 4352088.29; 224671.70, 4352084.08; 224665.74, 4352067.70; 224663.89, 4352063.75; 224659.87, 4352056.01; 224655.18, 4352048.65; 224652.68, 4352045.08; 224647.37, 4352038.16; 224641.48, 4352031.73; 224638.39, 4352028.65; 224625.04, 4352017.44; 224621.47, 4352014.94; 224614.11, 4352010.26; 224606.38, 4352006.23; 224602.43, 4352004.39; 224594.37, 4352001.05; 224585.93, 4351998.98; 224577.53, 4351996.65; 224568.97, 4351995.03; 224560.31, 4351994.12; and returning to 224560.31, 4351994.12.

* * * * *

(12) Unit 7: Mesa County, Colorado.

(i) Land bounded by the following UTM NAD83, zone 13N coordinates (E,N): 223172.45, 4348678.18; 223164.10, 4348677.06; 223155.69, 4348676.65; 223147.28, 4348676.96; 223138.92, 4348677.98; 223130.67, 4348679.70; 223122.61, 4348682.12; 223114.77, 4348685.22; 223107.23, 4348688.97; 223105.08, 4348690.05; 221446.80, 4349594.77; 221439.42, 4349599.22; 221432.45, 4349604.28; 221425.95, 4349609.93; 221419.95, 4349616.11; 221414.51, 4349622.79; 221409.67, 4349629.91; 221405.45, 4349637.43; 221401.90, 4349645.27; 221399.04, 4349653.40; 221396.88, 4349661.74; 221395.45, 4349670.23; 221394.76, 4349678.82; 221394.81, 4349687.43; 221395.60, 4349696.01; 221397.13, 4349704.49; 221399.38, 4349712.80; 221402.33, 4349720.89; 221405.97, 4349728.70; 221410.27, 4349736.16; 221415.20, 4349743.23; 221420.72, 4349749.84; 221426.78, 4349755.96; 221433.35, 4349761.53; 221440.38, 4349766.52; 221528.06, 4349823.24; 221530.29, 4349824.64; 222690.07, 4350532.12; 222697.89, 4350536.43; 222706.07, 4350540.02; 222714.53, 4350542.87; 222723.22, 4350544.95; 222732.06, 4350546.24; 222740.97, 4350546.75; 222749.90, 4350546.45; 222758.76, 4350545.36; 222767.49, 4350543.49; 222776.02, 4350540.84; 222784.28, 4350537.44; 222792.21, 4350533.32; 222799.73, 4350528.51; 222806.80, 4350523.04; 222813.34, 4350516.97; 222819.32, 4350510.34; 222824.69, 4350503.20; 222829.40, 4350495.61; 222833.41, 4350487.63; 222836.69, 4350479.32; 222839.22, 4350470.76; 223249.33, 4348810.93; 223251.95, 4348800.61; 223253.68, 4348792.17; 223254.68, 4348783.61; 223254.94, 4348774.99; 223254.45, 4348766.39; 223253.22, 4348757.86; 223251.26, 4348749.46; 223248.58, 4348741.27; 223245.20, 4348733.34; 223241.15, 4348725.74; 223236.45, 4348718.51; 223231.15, 4348711.71; 223225.28, 4348705.40; 223218.89, 4348699.62; 223212.02, 4348694.41; 223204.73, 4348689.82; 223197.07, 4348685.87; 223189.10, 4348682.60; 223180.87, 4348680.03; 223172.45, 4348678.18; and returning to 223172.45, 4348678.18.

* * * * *

(14) Unit 9: Mesa County, Colorado.

(i) Land bounded by the following UTM NAD83, zone 13N coordinates (E,N): 238464.91, 4347092.87; 238447.55, 4347091.35; 238440.44, 4347091.83; 238436.82, 4347092.11; 238430.10, 4347092.73; 236172.30, 4347409.84; 236160.33, 4347412.28; 236156.12, 4347413.40; 236147.80, 4347416.03; 236139.74, 4347419.37; 236135.79, 4347421.21; 236120.70, 4347429.92; 236117.13, 4347432.42; 236110.20, 4347437.73; 236103.77, 4347443.63; 236100.69, 4347446.71; 236089.49, 4347460.06; 236086.99, 4347463.63; 236082.30, 4347470.99; 236078.27, 4347478.73; 236076.43, 4347482.68; 236074.59, 4347486.87; 236049.56, 4347547.66; 236045.44, 4347559.85; 236044.31, 4347564.06; 236042.42, 4347572.58; 236041.28, 4347581.23; 236040.90, 4347585.57; 236040.90, 4347603.00; 236041.28, 4347607.34; 236042.42, 4347615.99; 236044.31, 4347624.51; 236045.44, 4347628.72; 236051.40, 4347645.10; 236053.24, 4347649.05; 236061.96, 4347664.14; 236064.46, 4347667.71; 236069.77, 4347674.63; 236075.66, 4347681.07; 236078.74, 4347684.15; 236085.17, 4347690.04; 236092.10, 4347695.35; 236095.67, 4347697.85; 236110.76, 4347706.57; 236114.71, 4347708.41; 236131.09, 4347714.37; 236135.30, 4347715.50; 236143.82, 4347717.39; 236152.47, 4347718.52; 236156.81, 4347718.90; 236160.40, 4347719.15; 238092.65, 4347818.34; 238097.77, 4347818.47; 238114.80, 4347817.01; 238597.16, 4347733.65; 238602.61, 4347732.55; 238604.85, 4347732.03; 238617.20, 4347728.33; 238729.89, 4347686.46; 238741.46, 4347681.30; 238745.08, 4347679.41; 238748.68, 4347677.43; 238761.06, 4347668.98; 238778.98, 4347654.68; 238784.95, 4347649.51; 238790.51, 4347643.88; 238795.59, 4347637.84; 238800.19, 4347631.41; 238804.26, 4347624.63; 238807.79, 4347617.56; 238809.34, 4347614.11; 238812.48, 4347606.26; 238814.95, 4347598.18; 238816.72, 4347589.91; 238817.79, 4347581.52; 238818.15, 4347573.07; 238818.15, 4347568.42; 238817.82, 4347560.33; 238816.84, 4347552.30; 238815.21, 4347544.37; 238812.95, 4347536.59; 238810.06, 4347529.03; 238808.51, 4347525.41; 238803.20, 4347514.80; 238798.23, 4347507.04; 238536.17, 4347136.70; 238531.84, 4347131.01; 238527.10, 4347125.65; 238521.99, 4347120.64; 238516.54, 4347116.00; 238510.78, 4347111.77; 238507.54, 4347109.57; 238501.31, 4347105.66; 238497.71, 4347104.41; 238490.32, 4347100.70; 238482.63, 4347097.65; 238474.70, 4347095.31; 238470.96, 4347094.36; 238464.91, 4347092.87; and returning to 238464.91, 4347092.87.

(ii) Note: Map of Units 6, 7, 8, and 9 of critical habitat for Phacelia submutica follows:

BILLING CODE 4310-55-P

BILLING CODE 4310-55-C

* * * * *

Family Polemoniaceae: Ipomopsis polyantha (Pagosa skyrocket)

* * * * *

(7) Unit 2: Archuleta County, Colorado.

(i) Land bounded by the following UTM NAD83, zone 13N coordinates (E,N): 306219.79, 4143158.27; 306228.72, 4143313.61; 307003.79, 4143989.39; 307211.97, 4144018.22; 307840.95, 4143816.88; 308210.39, 4143809.74; 308215.75, 4143886.66; 308293.59, 4143872.46; 308346.60, 4143847.52; 309004.29, 4143385.20; 309534.52, 4142892.90; 309558.00, 4142861.72; 309548.26, 4142623.97; 309546.44, 4142621.82; 309498.44, 4142571.81; 309318.44, 4142432.81; 309132.45, 4142298.80; 309124.45, 4142295.80; 309054.45, 4142279.80; 309046.45, 4142278.80; 309016.45, 4142278.80; 308991.49, 4142282.38; 308922.13, 4142364.20; 308858.63, 4142428.49; 308830.85, 4142479.29; 308822.12, 4142519.77; 308830.05, 4142563.43; 308856.25, 4142645.19; 308853.87, 4142696.78; 308836.40, 4142745.99; 308782.18, 4142812.18; 308714.17, 4142804.73; 308676.86, 4142811.08; 308653.05, 4142836.48; 308626.85, 4142854.74; 308606.22, 4142884.90; 308539.54, 4142924.59; 308456.99, 4142965.07; 308362.53, 4142957.92; 308341.10, 4142927.76; 308301.41, 4142926.97; 308278.40, 4142907.12; 308241.88, 4142909.50; 308220.45, 4142925.38; 308203.78, 4142965.07; 308185.36, 4142971.60; 308169.65, 4142988.02; 308126.10, 4143042.28; 308033.92, 4143066.67; 307948.29, 4143076.16; 307909.78, 4143060.13; 307844.10, 4143097.25; 307829.82, 4143133.66; 307754.15, 4143153.65; 307732.02, 4143122.24; 307707.74, 4143147.94; 307632.07, 4143137.23; 307597.80, 4143170.07; 307574.32, 4143187.15; 307556.42, 4143182.30; 307489.41, 4143186.52; 307474.33, 4143216.69; 307399.12, 4143231.89; 307363.99, 4143263.52; 307348.91, 4143288.12; 307325.10, 4143278.60; 307285.41, 4143283.36; 307256.84, 4143311.14; 307229.85, 4143317.49; 307186.99, 4143286.54; 307149.68, 4143300.82; 307152.86, 4143331.78; 307128.25, 4143327.02; 307117.93, 4143292.89; 307098.88, 4143346.07; 307074.40, 4143334.28; 307056.81, 4143323.05; 307037.76, 4143341.31; 307018.71, 4143328.61; 306995.69, 4143365.91; 306972.34, 4143356.44; 306943.07, 4143368.01; 306883.21, 4143353.82; 306781.41, 4143329.68; 306785.35, 4143297.65; 306772.65, 4143280.19; 306771.86, 4143247.64; 306763.12, 4143238.91; 306678.98, 4143190.32; 306628.81, 4143188.23; 306534.05, 4143193.11; 306467.85, 4143210.53; 306379.36, 4143213.32; 306319.43, 4143206.35; 306279.02, 4143188.23; 306253.93, 4143163.15; 306219.79, 4143158.27; and returning to 306219.79, 4143158.27.

(ii) Note: Map of Unit 2 of critical habitat for Ipomopsis polyantha follows:

BILLING CODE 4310-55-P

BILLING CODE 4310-55-C

* * * * *

(9) Unit 4: Archuleta County, Colorado.

(i) Land bounded by the following UTM NAD83, zone 13N coordinates (E,N): 325341.89, 4116396.61; 325387.72, 4117588.25; 326991.87, 4117571.07; 326986.14, 4116780.45; 328165.61, 4116660.32; 328052.33, 4116301.10; 327816.85, 4116316.40; 327799.67, 4115921.09; 327392.90, 4115932.55; 327375.84, 4115058.23; 327212.37, 4115018.58; 327107.67, 4114981.94; 327017.91, 4114906.40; 326959.34, 4114892.94; 326963.22, 4115164.85; 326567.91, 4115187.77; 326562.18, 4115588.81; 326172.61, 4115594.53; 326161.15, 4115204.96; 325777.30, 4115210.69; 325576.78, 4115199.23; 325737.20, 4115554.43; 325754.39, 4115795.05; 325668.45, 4115886.72; 325324.70, 4115995.57; 325341.89, 4116396.61; and returning to 325341.89, 4116396.61.

(ii) Note: Map of Units 3 and 4 of critical habitat for Ipomopsis polyantha follows:

BILLING CODE 4310-55-P

BILLING CODE 4310-55-C

* * * * *

Dated: March 15, 2012.
Eileen Sobeck,
Acting Assistant Secretary for Fish and Wildlife and Parks.

[FR Doc. 2012-7087 Filed 3-26-12; 8:45 am]

BILLING CODE 4310-55-P